DEPARTMENT OF COMMERCE

National Oceanic and Atmospheric Administration

Agency Information Collection Activities; Submission to the Office of Management and Budget (OMB) for Review and Approval; Comment Request; Alaska Prohibited Species Donation (PSD) Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 2, 2024.

ADDRESSES: Interested persons are invited to submit written comments to Adrienne Thomas, NOAA PRA Officer, at Adrienne.thomas@noaa.gov. Please reference OMB Control Number 0648-0316 in the subject line of your comments. Do not submit Confidential Business Information or otherwise sensitive or protected information.

FOR FURTHER INFORMATION CONTACT: Requests for additional information or specific questions related to collection activities should be directed to Megan Mackey, Fishery Management Specialist, NOAA, (907) 586-7228, megan.mackey@noaa.gov.

SUPPLEMENTARY INFORMATION:

I. Abstract

The National Marine Fisheries Services (NMFS) Alaska Regional Office is requesting extension of a currently approved information collection for the Prohibited Species Donation Program (PSD Program).

Retention of incidentally caught prohibited species is prohibited in the groundfish fisheries except for salmon and halibut for the purposes of the PSD Program. The PSD Program allows participating seafood vessels and processors to retain salmon and halibut bycatch for distribution to economically disadvantaged individuals. Regulations at 50 CFR 679.26 authorize the voluntary distribution of salmon and halibut taken incidentally in the groundfish trawl fisheries off Alaska to economically disadvantaged individuals by tax-exempt organizations through an authorized distributor.

The Administrator, Alaska Region, NMFS (Regional Administrator) may select one or more tax-exempt organizations to be authorized distributors, as defined at § 679.2. An organization seeking to distribute salmon bycatch and halibut bycatch under the PSD Program must provide the Regional Administrator with the information listed at 50 CFR 679.26(b)(1).

NMFS uses the information provided by an applicant to determine the organization's nonprofit status. In addition, the application provides information about the ability of the organization to arrange for and distribute donated salmon and halibut as a high quality food product.

II. Method of Collection

There is no form for this application. The application to become a PSD distributor, and any changes or updates to the application, are submitted to NMFS as an email attachment.

III. Data

OMB Control Number: 0648-0316.

Form Number(s): None.

Type of Review: Regular submission (extension of a current information collection).

Affected Public: Not-for-profit institutions.

Estimated Number of Respondents: 1.

Estimated Time per Response: Application to be a NMFS Authorized Distributor, 17 hours.

Estimated Total Annual Burden Hours: 17 hours.

Estimated Total Annual Cost to Public: $0 in recordkeeping and reporting costs.

Respondent's Obligation: Required to obtain or retain benefits.

Legal Authority: Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-26567 Filed 12-1-23; 8:45 am]

BILLING CODE 3510-22-P